DEPARTMENT OF ENERGY

Federal Energy Regulatory Commission

Combined Notice of Filings #1

September 6, 2005.

Take notice that the Commission received the following electric rate filings.

Docket Numbers: ER02-2227-003, ER02-2229-002, ER03-24-002, ER03-36-003.

Applicants: Creed Energy Center, LLC, Goose Haven Energy Center, LLC; Los Esteros Critical Energy Facility, LLC; Calpine Northbrook Energy Marketing, LLC.

Description: The above referenced applicants, together, Calpine Entities, submit a joint updated market power analysis.

Filed Date: 08/30/2005.

Accession Number: 20050902-0009.

Comment Date: 5 p.m. eastern time on Tuesday, September 20, 2005.

Docket Numbers: ER04-445-012.

Applicants: California Independent System Operator Corporation.

Description: California Independent System Operator Corp.,submits its interim Standard Large Generator Interconnection Procedures.

Filed Date: 08/30/2005.

Accession Number: 20050902-0010.

Comment Date: 5 p.m. eastern time on Tuesday, September 20, 2005.

Docket Numbers: ER99-230-009, ER03-762-009, ER03-533-002.

Applicants: Alliant Energy Corporate Services, Inc., Alliant Energy Neenah, LLC.

Description: Alliant Energy Corporate Services, Inc., on behalf of itself and Alliant Energy Neenah, LLC, makes corrections to their June 30, 2005 filing pertaining to the wholesale power sales for AECs's market based rate.

Filed Date: 08/30/2005.

Accession Number: 20050902-0011.

Comment Date: 5 p.m. eastern time on Tuesday, September 20, 2005.

Docket Numbers: ER05-1333-000, ER05-1421-000.

Applicants: Southern Company Services, Inc.

Description: Southern Company Services, Inc. on behalf of Southern Companies submits revisions to the Large Generator Interconnection Procedures in compliance with Order 2003-C and Order No. 2006, to become effective 8/15/05.

Filed Date: 08/15/2005.

Accession Number: 20050816-0194.

Comment Date: 5 p.m. eastern time on Tuesday, September 06, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Magalie R. Salas,
Secretary.

[FR Doc. E5-4955 Filed 9-9-05; 8:45 am]

BILLING CODE 6717-01-P